DEPARTMENT OF ENERGY

Federal Energy Regulatory Commission

[Docket No. RP00-467-004]

Midwestern Gas Transmission Company; Notice of Compliance Filing

June 24, 2003.

Take notice that on June 19, 2003, Midwestern Gas Transmission Company (Midwestern) tendered for filing to become part of Midwestern's FERC Gas Tariff, Third Revised Volume No. 1, the following tariff sheets, effective October 1, 2003:

Second Substitute Original Sheet No. 246B

Substitute Original Sheet No. 246C

Substitute First Revised Sheet No. 266

Midwestern states that the purpose of this filing is to comply with the Commission's Order dated June 5, 2003 in Docket No. RP00-467, et al. (103 FERC ¶ 61,294) (2003).

Midwestern states that copies of this filing have been sent to all parties of record in this proceeding.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 1, 2003.

Magalie R. Salas,
Secretary.

[FR Doc. 03-16440 Filed 6-27-03; 8:45 am]

BILLING CODE 6717-01-P